DEPARTMENT OF DEFENSE

Office of the Secretary

[No. DoD-2007-OS-0017]

Submission for OMB Review; Comment Request

ACTION: Notice.

The Department of Defense has submitted to OMB for clearance, the following proposal for collection of information under the provisions of the Paperwork Reduction Act (44 U.S.C. Chapter 35).

DATES: Consideration will be given to all comments received by September 26, 2007.

Title, Form, and OMB Number: National Security Education Program (NSEP) Service Agreement for Scholarship and Fellowship Awards, DD Form 2752; and National Security Education Program (NSEP) Service Agreement Report (SAR), DD Form 2753; OMB Control Number 0704-0368.

Type of Request: Revision.

Number of Respondents: 1,650.

Responses per Respondent: 1.

Annual Responses: 1,650.

Average Burden per Response: 10 minutes.

Annual Burden Hours: 275.

Needs and Uses: This information collection requirement is necessary to obtain verification that applicable scholarship and fellowship recipients are fulfilling service obligation mandated by the National Security Education Program Act of 1991, Title VIII of Pub. L. 102-183, as amended.

Affected Public: Individuals or households; Federal government.

Frequency: Annually.

Respondent's Obligation: Mandatory.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: August 21, 2007.
Patricia L. Toppings,
Alternate OSD Federal Register Liaison Officer, Department of Defense.

[FR Doc. 07-4174 Filed 8-24-07; 8:45 am]

BILLING CODE 5001-06-M